DEPARTMENT OF LABOR

Employment and Training Administration

[TA-W-51,285]

Honeywell International, ACS-Control Products, Albuquerque, NM; Notice of Termination of Investigation

Pursuant to section 221 of the Trade Act of 1974, as amended, an investigation was initiated on March 24, 2003 in response to a petition filed by a company official on behalf of workers at Honeywell International, ACS-Control Products, Albuquerque, New Mexico.

The petitioner has requested that the petition be withdrawn. Consequently, further investigation would serve no purpose and the investigation has been terminated.

Signed at Washington, DC this 25th day of March 2003.
Linda G. Poole,
Certifying Officer, Division of Trade Adjustment Assistance.

[FR Doc. 03-8347 Filed 4-4-03; 8:45 am]

BILLING CODE 4510-30-P